DEPARTMENT OF HEALTH AND HUMAN SERVICES

[Document Identifier: OS-0990-new]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 18, 2019.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Cohort 3 Teen Pregnancy Prevention Performance Measure Data.

Type of Collection: New, 0990-NEW—Office of Adolescent Health.

Abstract: The Office of Adolescent Health Requests a new clearance for the collection of performance measures from the cohort 3 Teen Pregnancy Prevention (TPP) grant recipients, awarded in Fall 2018. Phase 1 cohort 3 TPP grants shall be issued in for an anticipated 2 year period of performance. A subset of successful Phase 1 grantees will be selected for Phase 2 grants. A 3 year clearance is requested. FY2018 TPP phase 1 grant recipients will be expected to report data twice each year.

Estimated Annualized Burden Table
Type of respondent | Number of respondents | Number of responses per respondent | Average burden per response (in hours) | Total burden hours
TPP Grantee (Grantee Form) | 19 | 2 | 7 | 266
TPP Grantee (Participant Form) | 19 | 2 | 8 | 304
TPP Program Participant | 14,250 | 2 | 10/60 | 4,750
Total | 14,269 | 2 | 15 | 5,320

Terry Clark,
Office of the Secretary, Asst Paperwork Reduction Act Reports Clearance Officer.

[FR Doc. 2018-27470 Filed 12-18-18; 8:45 am]

BILLING CODE 4168-11-P